UNITED STATES AGENCY FOR GLOBAL MEDIA

Performance Review Board Members

AGENCY: United States Agency for Global Media.

ACTION: Notice.

SUMMARY: The United States Agency for Global Media (USAGM) announces the members of its SES Performance Review Board (PRB).

ADDRESSES: USAGM Office of Human Resources, 330 Independence Ave. SW, Washington, DC 20237.

FOR FURTHER INFORMATION CONTACT: Ellona Fritschie, Senior Advisor, at efritschie@usagm.gov or (202) 920-2400.

SUPPLEMENTARY INFORMATION: In accordance with 5 U.S.C. 4314, USAGM publishes this notice announcing the individuals who will serve as members of the PRB for a term of one year. The PRB is responsible for: (1) reviewing performance appraisals and ratings of Senior Executive Service and Senior Level members; and (2) making recommendations on other performance management issues, such as pay adjustments, bonuses, and Presidential Rank Awards. The names, position titles, and appointment types of each member of the PRB are set forth below:

1. Grant Turner, Chief Risk Officer, Career SES

2. David Kotz, Chief Management Officer, Career SES

3. Sylvia Rosabal, Director, Office of Cuban Broadcasting, Non-Career SES

4. Adrienne Fleming, Deputy Director, TSI, Career SES

Dated: November 13, 2024.
Armanda Matthews,
Program Support Specialist, U.S. Agency for Global Media.

[FR Doc. 2024-26849 Filed 11-15-24; 8:45 am]

BILLING CODE 8610-01-P